DEPARTMENT OF COMMERCE

International Trade Administration

[A-570-916]

Laminated Woven Sacks From the People's Republic of China: Final Results of Antidumping Duty Administrative Review; 2013-2014

AGENCY: Enforcement and Compliance, International Trade Administration, Commerce.

SUMMARY: On January 28, 2015, the Department of Commerce (the “Department”) published the Preliminary Results ¹ of the 2013-2014 administrative review of the antidumping duty order on laminated woven sacks (“sacks”) from the People's Republic of China (“PRC”). The period of review (“POR”) is August 1, 2013, through July 31, 2014. We gave interested parties an opportunity to comment on the Preliminary Results, but we received none. The final dumping margin for the PRC-wide entity is listed in the “Final Results of Review” section below.

¹ See Laminated Woven Sacks from the People's Republic of China: Preliminary Results of Antidumping Duty Administrative Review; 2013-2014, 80 FR 4537 (January 28, 2015) (“Preliminary Results”) and accompanying Preliminary Decision Memorandum.

DATES: April 21, 2015.

FOR FURTHER INFORMATION CONTACT: Irene Gorelik, AD/CVD Operations, Office V, Enforcement and Compliance, International Trade Administration, Department of Commerce, 14th Street and Constitution Avenue NW., Washington, DC 20230; telephone: (202) 482-6905.

SUPPLEMENTARY INFORMATION:

Background

We received no comments from interested parties on our Preliminary Results dated January 28, 2015. The Department conducted this administrative review in accordance with section 751(a) of the Tariff Act of 1930, as amended (“the Act”).

Scope of the Order

The merchandise covered by the Order ² is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics; ³ printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

² See Notice of Antidumping Duty Order: Laminated Woven Sacks from the People's Republic of China, 73 FR 45941 (August 7, 2008) (“Order”).

³ “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (“HTSUS”) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000.⁴ Although HTSUS subheadings are provided for convenience and customs purposes, the written description of the scope of the order is dispositive.

⁴ At the request of U.S. Customs and Border Protection (“CBP”), the Department added the USHTS subheading 6305.33.0040 to the ACE CRF for the antidumping duty order. See “Memorandum to the File, from Irene Gorelik, Analyst, re: Addition of U.S. Harmonized Tariff Schedule (“USHTS”) Numbers to the Automated Commercial Enterprise (“ACE”) Case Reference File (“CRF”),” dated September 24, 2014.

Preliminary Results

Upon initiation ⁵ of the administrative review, we provided all companies ⁶ initiated for review the opportunity to submit either a “no shipment” certification or the separate rate application or certification. None of the nine companies initiated for review submitted “no shipment” certifications. Furthermore, none of the nine companies under review submitted separate rate eligibility documentation. As a result, we preliminarily found that these nine companies are part of the PRC-wide entity.⁷ The rate previously established for the PRC-wide entity in this proceeding is 47.64 percent.⁸

⁵ See Initiation of Antidumping and Countervailing Duty Administrative Reviews and Request for Revocation, in Part, 79 FR 58729 (September 30, 2014) (“Initiation Notice”).

⁶ The nine companies are: Changle Baodu Plastic Co., Ltd., Shangdong Qikai Plastics Product Co., Ltd., Wenzhou Hotsun Plastics Co., Ltd., Zibo Aifudi Plastic Packaging Co., Ltd., Zibo Linzi Luitong Plastic Fabric Co., Ltd., Zibo Linzi Shuaiqiang Plastics Co., Ltd., Zibo Linzi Qitianli Plastic Fabric Co., Ltd., Zibo Linzi Worun Packing Product Co., Ltd., and Zibo Qigao Plastic Cement Co., Ltd.

⁷ See Preliminary Results, 80 FR 4537-4538 and accompanying Preliminary Decision Memorandum. Pursuant to the Department's change in practice, the Department no longer considers the non-market economy entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the non-market economy entity will not be under review unless a party specifically requests, or the Department self-initiates, a review of the entity. Because no party requested a review of the entity, the entity is not under review and the entity's rate is not subject to change.

⁸ See Implementation of Determinations under Section 129 of the Uruguay Round Agreements Act: Certain New Pneumatic Off-the-Road Tires; Circular Welded Carbon Quality Steel Pipe; Laminated Woven Sacks; and Light-Walled Rectangular Pipe and Tube from the People's Republic of China, 77 FR 52683, 52688 (August 30, 2012).

Final Results of Review

The Department did not receive any comments from interested parties after issuing the Preliminary Results. Thus, because nothing has changed since the Preliminary Results with respect to the above-noted nine companies initiated for review, we continue to find them to be part of the PRC-wide entity, to which we are assigning the previously established rate of 47.64 percent for the period August 1, 2013, through July 31, 2014.

Assessment

The Department determined, and CBP shall assess, antidumping duties on all appropriate entries of subject merchandise in accordance with the final results of this review, pursuant to 19 CFR 351.212(b). The Department intends to issue assessment instructions to CBP 15 days after the date of publication of these final results of review. For those companies subject to this review found to be part of the PRC-wide entity, the Department will instruct CBP to assess antidumping duties on entries of subject merchandise at the PRC-wide rate of 47.67 percent.

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters not noted above that have separate rates, the cash deposit rate will continue to be the exporter-specific rate published for the most recent period; (2) for all PRC exporters of subject merchandise which have not been found to be entitled to a separate rate, the cash deposit rate will be the PRC-wide rate of 47.64 percent; and (3) for all non-PRC exporters of subject merchandise which have not received their own rate, the cash deposit rate will be the rate applicable to the PRC exporters that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

This notice also serves as a final reminder to parties subject to the administrative protective order (“APO”) of their responsibility concerning the disposition of proprietary information disclosed under APO in accordance with 19 CFR 351.305(a)(3). Timely written notification of the destruction of APO materials or conversion to judicial protective order is hereby requested. Failure to comply with the regulations and the terms of an APO is a sanctionable violation.

We are issuing and publishing these results and this notice in accordance with sections 751(a)(1) and 777(i) of the Act.

Dated: April 14, 2015.
Paul Piquado,
Assistant Secretary for Enforcement and Compliance.

[FR Doc. 2015-09229 Filed 4-20-15; 8:45 am]

BILLING CODE 3510-DS-P